NUCLEAR REGULATORY COMMISSION

[NRC-2017-0001]

Sunshine Act Meeting Notice

DATES: Weeks of February 27, March 6, 13, 20, 27, April 3, 2017.

PLACE: Commissioners' Conference Room, 11555 Rockville Pike, Rockville, Maryland.

STATUS: Public and Closed.

Week of February 27, 2017

Wednesday, March 1, 2017

10:00 a.m. Briefing on NRC International Activities (Closed Ex. 1 & 9).

Thursday, March 2, 2017

9:00 a.m. Strategic Programmatic Overview of the Fuel Facilities and the Nuclear Materials Users Business Lines (Public Meeting) (Contact: Soly Soto; 301-415-7528).

This meeting will be webcast live at the Web address— http://www.nrc.gov/.

Week of March 6, 2017—Tentative

There are no meetings scheduled for the week of March 6, 2017.

Week of March 13, 2017—Tentative

There are no meetings scheduled for the week of March 13, 2017.

Week of March 20, 2017—Tentative

Thursday, March 23, 2017

9:00 a.m. Hearing on Combined Licenses for North Anna Nuclear Plant, Unit 3: Section 189a. of the Atomic Energy Act Proceeding (Public Meeting), (Contact: James Shea: 301-415-1388).

This meeting will be webcast live at the Web address— http://www.nrc.gov/.

Friday, March 24, 2017

10:00 a.m. Briefing on the Annual Threat Environment (Closed Ex. 1).

Week of March 27, 2017—Tentative

There are no meetings scheduled for the week of March 27, 2017.

Week of April 3, 2017—Tentative

Tuesday, April 4, 2017

10:00 a.m. Meeting with the Organization of Agreement States and the Conference of Radiation Control Program Directors (Public Meeting), (Contact: Paul Michalak: 301-415-5804).

This meeting will be webcast live at the Web address— http://www.nrc.gov/.

Thursday, April 6, 2017

10:00 a.m. Meeting with Advisory Committee on Reactor Safeguards (Public Meeting), (Contact: Mark Banks: 301-415-3718).

This meeting will be webcast live at the Web address— http://www.nrc.gov/.

* * * * *

The schedule for Commission meetings is subject to change on short notice. For more information or to verify the status of meetings, contact Denise McGovern at 301-415-0981 or via email at Denise.McGovern@nrc.gov.

* * * * *

The NRC Commission Meeting Schedule can be found on the Internet at: http://www.nrc.gov/public-involve/public-meetings/schedule.html.

* * * * *

The NRC provides reasonable accommodation to individuals with disabilities where appropriate. If you need a reasonable accommodation to participate in these public meetings, or need this meeting notice or the transcript or other information from the public meetings in another format (e.g., braille, large print), please notify Kimberly Meyer, NRC Disability Program Manager, at 301-287-0739, by videophone at 240-428-3217, or by email at Kimberly.Meyer-Chambers@nrc.gov. Determinations on requests for reasonable accommodation will be made on a case-by-case basis.

* * * * *

Members of the public may request to receive this information electronically. If you would like to be added to the distribution, please contact the Nuclear Regulatory Commission, Office of the Secretary, Washington, DC 20555 (301-415-1969), or email Brenda.Akstulewicz@nrc.gov or Patricia.Jimenez@nrc.gov.

Dated: February 24, 2017.
Denise L. McGovern,
Policy Coordinator, Office of the Secretary.

[FR Doc. 2017-04028 Filed 2-27-17; 11:15 am]

BILLING CODE 7590-01-P